ENVIRONMENTAL PROTECTION AGENCY

40 CFR Parts 79 and 80

[EPA-HQ-OAR-2016-0041; FRL-9955-04-OAR]

RIN 2060-AS66

Public Hearing for the Renewables Enhancement and Growth Support Rule

AGENCY: Environmental Protection Agency (EPA).

ACTION: Announcement of public hearing.

SUMMARY: The Environmental Protection Agency (EPA) is announcing a public hearing to be held in Chicago, Illinois on December 6, 2016, on its proposal for the “Renewables Enhancement and Growth Support (REGS) Rule.” The public can view the proposal at https://www.epa.gov/renewable-fuel-standard-program/proposed-renewables-enhancement-and-growth-support-regs-rule. Comments submitted at the public hearing will contribute to the REGS Rule proposal that the EPA will publish at a later date in the Federal Register.

DATES: The public hearing will be held on December 6, 2016, at the location noted below under ADDRESSES. The hearing will begin at 9:00 a.m. Central Standard Time and end when all parties present who wish to speak have had an opportunity to do so. Parties wishing to testify at the hearing should notify the contact person listed under FOR FURTHER INFORMATION CONTACT by November 22, 2016. Additional information regarding the hearing appears below under SUPPLEMENTARY INFORMATION.

ADDRESSES: The hearing will be held at the following location: Palmer House Hilton Hotel, 17 East Monroe Street, Chicago, IL 60603; telephone number: (312) 726-7500. A complete set of documents related to the proposal will be available for public inspection through the Federal eRulemaking Portal: http://www.regulations.gov, Docket ID No. EPA-HQ-OAR-2016-0041. Documents can also be viewed at the EPA Docket Center, located at William Jefferson Clinton Building West, Room 3334, 1301 Constitution Ave. NW., Washington, DC between 8:30 a.m. and 4:30 p.m., Monday through Friday, excluding legal holidays.

FOR FURTHER INFORMATION CONTACT: Julia MacAllister, Office of Transportation and Air Quality, Assessment and Standards Division, Environmental Protection Agency, 2000 Traverwood Drive, Ann Arbor, MI 48105; telephone number: (734) 214-4131; email address: RFS_Hearing@epa.gov.

SUPPLEMENTARY INFORMATION: The EPA has proposed amendments to update both its Renewable Fuel Standard (RFS) and other fuels regulations in the Renewables Enhancement and Growth Support (REGS) Rule to reflect changes in the marketplace and to promote the growing use of both ethanol fuels (conventional and advanced) and non-ethanol advanced and cellulosic biofuels. In addition, the REGS rule includes a number of other regulatory changes, clarifications, and technical corrections to the RFS program and other fuels regulations. The proposal for the REGS rule will be published separately in the Federal Register. The pre-publication version can be found at https://www.epa.gov/renewable-fuel-standard-program/proposed-renewables-enhancement-and-growth-support-regs-rule.

Public Hearing: The public hearing will provide interested parties the opportunity to present data, views, or arguments concerning the proposal (which can be found at https://www.epa.gov/renewable-fuel-standard-program/proposed-renewables-enhancement-and-growth-support-regs-rule). The EPA may ask clarifying questions during the oral presentations but will not respond to the presentations at that time. Written statements and supporting information submitted during the comment period will be considered with the same weight as any oral comments and supporting information presented at the public hearing. Written comments must be received by the last day of the comment period, as specified in the notice of proposed rulemaking.

How can I get copies of this document, the proposed rule, and other related information?

The EPA has established a docket for this action under Docket ID No. EPA-HQ-OAR-2016-0041. The EPA has also developed a Web site for the Renewables Enhancement and Growth Support (REGS) rule, including the proposal, at the address given above. Please refer to the notice of proposed rulemaking for detailed information on accessing information related to the proposal.

Dated: October 27, 2016.
Christopher Grundler,
Director, Office of Transportation and Air Quality, Office of Air and Radiation.

[FR Doc. 2016-26965 Filed 11-9-16; 8:45 am]

BILLING CODE 6560-50-P